DEPARTMENT OF LABOR

Employment and Training Administration

[TA-W-60,222]

Textile, Inc., Ronda, NC; Notice of Termination of Investigation

Pursuant to Section 221 of the Trade Act of 1974, as amended, an investigation was initiated on October 10, 2006 in response to a petition filed by a company official on behalf of workers at Textile Inc., Ronda, North Carolina. The workers at the subject facility produce woven throw blankets.

The petitioner has requested that the petition be withdrawn. Consequently, the investigation has been terminated.

Richard Church,
Certifying Officer, Division of Trade Adjustment Assistance.

[FR Doc. E6-17867 Filed 10-24-06; 8:45 am]

BILLING CODE 4510-30-P